ENVIRONMENTAL PROTECTION AGENCY

40 CFR Part 271

[EPA-R08-RCRA-2006-0127; FRL-8556-7]

Utah: Final Authorization of State Hazardous Waste Management Program Revisions

AGENCY: Environmental Protection Agency (EPA).

ACTION: Withdrawal of immediate final rule.

SUMMARY: EPA is withdrawing the immediate final rule, Utah: Final Authorization of State Hazardous Waste Management Program Revisions, published on March 7, 2008 at 73 FR 12277, which authorized revisions to Utah's hazardous waste program under the Resource Conservation and Recovery Act (RCRA). EPA stated in the immediate final rule that if EPA received comments that oppose this authorization, EPA would publish a timely notice of withdrawal in the Federal Register. Since EPA did receive comments that oppose this action, EPA is withdrawing the immediate final rule. EPA will address these comments in a subsequent final action based on the proposed rule also published on March 7, 2008, at 73 FR 12340.

DATES: As of April 23, 2008, EPA withdraws the immediate final rule published on March 7, 2008, at 73 FR 12277.

FOR FURTHER INFORMATION CONTACT: Carl Daly, Solid and Hazardous Waste Program, U.S. Environmental Protection Agency, Region 8, 1595 Wynkoop Street, Denver, Colorado 80202, (303) 312-6416, daly.carl@epa.gov.

SUPPLEMENTARY INFORMATION: EPA is withdrawing the immediate final rule, Utah: Final Authorization of State Hazardous Waste Management Program Revisions, published on March 7, 2008, at 73 FR 12277, which intended to grant authorization for revisions to Utah's hazardous waste program. EPA stated in the immediate final rule that if EPA received comments that opposed this action, EPA would publish a timely notice of withdrawal in the Federal Register. Since EPA did receive adverse comments, EPA is withdrawing the immediate final rule. EPA will address all comments in a subsequent final action based on the proposed rule previously published on March 7, 2008, at 73 FR 12340. EPA will not provide for additional public comment during the final action.

Dated: April 15, 2008.
Robert E. Roberts,
Regional Administrator, Region 8.

[FR Doc. E8-8799 Filed 4-22-08; 8:45 am]

BILLING CODE 6560-50-P